DEPARTMENT OF LABOR

Occupational Safety and Health Administration

29 CFR Part 1952

[Docket No. OSHA-2021-0012]

RIN 1218-AD43

Arizona State Plan for Occupational Safety and Health; Proposed Reconsideration and Revocation; Extension of Comment Period; Extension of Hearing Request Period; Extension of Period To Submit Written Testimony; Extension of Period To Submit Notices of Intention To Appear at Public Hearing

AGENCY: Occupational Safety and Health Administration (OSHA), Labor.

ACTION: Proposed rule; extension of comment period; extension of period for submitting request for an informal hearing; extension of period to submit written testimony; extension of deadline for submitting notices of intention to appear at public hearing.

SUMMARY: The Occupational Safety and Health Administration (OSHA) is extending the deadlines for submitting comments on the Notice of Proposed Reconsideration and Revocation of Final Approval of the Arizona State Plan for Occupational Safety and Health (Notice), requests for an informal hearing, and submission of written testimony for an additional 40 days to July 5, 2022, and extending the deadline for submitting notices of intention to appear at its informal public hearing for an additional 55 days to July 5, 2022. In its prior Notice announcing this proposed action, OSHA advised the public that any informal public hearing to be held on this matter will begin on August 16, 2022, at 10:00 a.m., ET.

DATES:

Written comments: Written comments on the Notice and requests for a hearing must be submitted electronically at www.regulations.gov, which is the Federal e-Rulemaking Portal, by July 5, 2022.

Informal public hearing: Any interested person may request an informal hearing concerning the proposed revocation. OSHA will hold such a hearing if the Assistant Secretary of Labor for Occupational Safety and Health (Assistant Secretary) finds that substantial objections have been filed. The agency will hold such an informal public hearing beginning on August 16, 2022, virtually on WebEx. OSHA expects the hearing to last from 10:00 a.m. to 6:00 p.m., ET; a schedule will be released prior to the start of the hearing. The exact daily schedule may be amended at the discretion of the presiding administrative law judge (ALJ). If necessary, the hearing will continue at the same time on subsequent days.

Notice of intention to appear at the hearing: Interested persons who intend to present testimony or question witnesses at the hearing must submit a notice of their intention to do so by July 5, 2022.

Hearing testimony and documentary evidence: Interested persons who request more than 5 minutes to present testimony, or who intend to submit documentary evidence, at the hearing must submit the full text of their testimony and all documentary evidence by July 5, 2022.

ADDRESSES:

Written comments: You may submit comments and attachments electronically at www.regulations.gov, which is the Federal e-Rulemaking Portal. Follow the instructions on-line for making electronic submissions.

Informal public hearing: If the agency holds an informal public hearing, the hearing will be held virtually on WebEx. Additional information on how to access the informal hearing will be posted when available at www.osha.gov/stateplans.

Notice of intention to appear, hearing testimony, and documentary evidence: You may submit your notice of intention to appear, hearing testimony, and documentary evidence, identified by docket number (OSHA-2021-0012), electronically at www.regulations.gov. Follow the instructions online for electronic submission of materials, including attachments.

Instructions: All submissions must include the agency name and docket number for this rulemaking (Docket No. OSHA-2021-0012). All submissions, including any personal information, are placed in the public docket without change and may be available online at www.regulations.gov. Therefore, OSHA cautions you about submitting certain personal information, such as social security numbers and birthdates. For additional information on submitting notices of intention to appear, hearing testimony, or documentary evidence, see Section V, “Public Participation”, and the DATES and ADDRESSES sections of the Notice preamble (87 FR 23783, 23783-84, 23788-89; April 21, 2022).

Docket: To read or download comments, notices of intention to appear, and materials submitted in response to this Federal Register notice, go to Docket No. OSHA-2021-0012 at www.regulations.gov. All comments and submissions are listed in the www.regulations.gov index; however, some information (e.g., copyrighted material) is not publicly available to read or download through that website. All comments and submissions are available for inspection and, where permissible, copying at the OSHA Docket Office, U.S. Department of Labor; telephone: (202) 693-2350 (TTY number: (877) 889-5627).

Electronic copies of this Federal Register document are available at www.regulations.gov. This document, as well as news releases and other relevant information, is also available at OSHA's website at www.osha.gov.

FOR FURTHER INFORMATION CONTACT:

For press inquiries: Contact Frank Meilinger, OSHA Office of Communications, U.S. Department of Labor; telephone (202) 693-1999; email meilinger.francis2@dol.gov.

For general and technical information: Contact Douglas J. Kalinowski, Director, OSHA Directorate of Cooperative and State Programs, U.S. Department of Labor; telephone (202) 693-2200; email: kalinowski.doug@dol.gov.

SUPPLEMENTARY INFORMATION: OSHA published a Notice of Proposed Reconsideration and Revocation of Final Approval of the Arizona State Plan for Occupational Safety and Health (Notice) on April 21, 2022 (87 FR 23783). This Notice requested written comments and requests for a hearing by May 26, 2022, and notices of intention to appear at the public hearing by May 11, 2022; and the Notice tentatively scheduled an informal public hearing on this proposal to begin on August 16, 2022. OSHA is extending the deadline for submitting notices of intention to appear at the hearing by 55 days to July 5, 2022, and the deadline for submitting written comments and testimony and requests for a hearing by 40 days to July 5, 2022. OSHA is not changing the tentative hearing date; if an informal public hearing is held, the hearing will commence on August 16, 2022.

Authority and Signature

This document was prepared under the direction of Douglas L. Parker, Assistant Secretary of Labor for Occupational Safety and Health, U.S. Department of Labor, 200 Constitution Avenue NW, Washington, DC. OSHA is issuing this notice under the authority specified by Section 18 of the Occupational Safety and Health Act of 1970 (29 U.S.C. 667), Secretary of Labor's Order No. 8-2020 (85 FR 58393 (Sept. 18, 2020)), and 29 CFR parts 1902, 1952, 1953, 1954, and 1955.

Signed at Washington, DC, on May 11, 2022.
Douglas L. Parker,
Assistant Secretary of Labor for Occupational Safety and Health.

[FR Doc. 2022-10714 Filed 5-23-22; 8:45 am]

BILLING CODE 4510-26-P